DEPARTMENT OF ENERGY

Federal Energy Regulatory Commission

Combined Notice of Filings #1

Take notice that the Commission received the following electric rate filings:

Docket Numbers: ER10-2739-019; ER14-1219-006; ER16-1732-005; ER17-993-004; ER10-2743-014; ER18-95-001; ER17-989-004; ER10-1854-011; ER17-990-004; ER17-1946-004; ER17-991-004; ER10-2755-017; ER16-1652-007; ER11-3320-011; ER10-2751-014; ER10-2744-012; ER16-2406-005; ER16-2405-005; ER13-2316-009; ER17-992-004; ER10-2678-012; ER10-1631-011; ER14-19-010.

Applicants: LS Power Marketing, LLC, Armstrong Power, LLC, Aurora Generation, LLC, Bath County Energy, LLC, Bluegrass Generation Company, L.L.C., Buchanan Energy Services Company, LLC, Chambersburg Energy, LLC, Doswell Limited Partnership, Gans Energy, LLC, Helix Ironwood, LLC, Hunlock Energy, LLC, Las Vegas Power Company, LLC, LifeEnergy, LLC, LSP University Park, LLC, Renaissance Power, L.L.C, Riverside Generating Company, L.L.C., Rockford Power, LLC, Rockford Power II, LLC, Seneca Generation, LLC, Springdale Energy, LLC, Troy Energy, LLC, University Park Energy, LLC, West Deptford Energy, LLC.

Description: Notification of Change in Status of the LS PJM MBR Sellers.

Filed Date: 1/12/18.

Accession Number: 20180112-5211.

Comments Due: 5 p.m. ET 2/2/18.

Docket Numbers: ER15-760-010

Applicants: Western Antelope Blue Sky Ranch A LLC.

Description: Compliance filing: Western Antelope Blue Sky Ranch A Notice of Change in Status MBR Tariff to be effective 1/16/2018.

Filed Date: 1/16/18

Accession Number: 20180116-5122.

Comments Due: 5 p.m. ET 2/6/18.

Docket Numbers: ER16-120-005.

Applicants: New York Independent System Operator, Inc.

Description: Compliance filing: NYISO filing re: RMR compliance revisions to address 11/16/17 Order to be effective 10/20/2015.

Filed Date: 1/16/18.

Accession Number: 20180116-5196.

Comments Due: 5 p.m. ET 2/6/18.

Docket Numbers: ER16-1738-005.

Applicants: Beacon Solar 4, LLC.

Description: Compliance filing: Beacon Solar 4, LLC, Notice of Change in Category Status MBR Tariff to be effective 1/16/2018.

Filed Date: 1/16/18.

Accession Number: 20180116-5119.

Comments Due: 5 p.m. ET 2/6/18.

Docket Numbers: ER16-1956-005.

Applicants: Western Antelope Dry Ranch LLC.

Description: Compliance filing: Western Antelope Dry Ranch Notice of Change in Status MBR Tariff to be effective 1/16/2018.

Filed Date: 1/16/18.

Accession Number: 20180116-5123.

Comments Due: 5 p.m. ET 2/6/18.

Docket Numbers: ER16-2224-004.

Applicants: Solverde 1, LLC.

Description: Compliance filing: Solverde 1, LLC, Notice of Change in Category Status MBR Tariff to be effective 1/16/2018.

Filed Date: 1/16/18.

Accession Number: 20180116-5121.

Comments Due: 5 p.m. ET 2/6/18.

Docket Numbers: ER17-306-004.

Applicants: Beacon Solar 3, LLC.

Description: Compliance filing: Beacon Solar 3, LLC Notice of Change in Category Status MBR Tariff to be effective 1/16/2018.

Filed Date: 1/16/18.

Accession Number: 20180116-5117.

Comments Due: 5 p.m. ET 2/6/18.

Docket Numbers: ER17-544-004.

Applicants: Beacon Solar 1, LLC.

Description: Compliance filing: Beacon Solar 1, LLC Notice of Change in Category Status MBR Tariff to be effective 1/16/2018.

Filed Date: 1/16/18.

Accession Number: 20180116-5115.

Comments Due: 5 p.m. ET 2/6/18.

Docket Numbers: ER17-980-002.

Applicants: Alliant Energy Corporate Services, Inc.

Description: Compliance filing: AECS Reactive Power Compliance Filing to be effective 4/17/2017.

Filed Date: 1/16/18.

Accession Number: 20180116-5006.

Comments Due: 5 p.m. ET 2/6/18.

Docket Numbers: ER18-153-001.

Applicants: Otter Tail Power Company.

Description: Compliance filing: Compliance Filing of Executed Big Stone Plant Transmission Facilities Agreement to be effective 12/24/2017.

Filed Date: 1/16/18.

Accession Number: 20180116-5197.

Comments Due: 5 p.m. ET 2/6/18.

Docket Numbers: ER18-648-000.

Applicants: Springdale Energy, LLC.

Description: § 205(d) Rate Filing: Reactive Service Rate Schedule Effective Date eTariff Filings to be effective 12/13/2017.

Filed Date: 1/12/18.

Accession Number: 20180112-5149.

Comments Due: 5 p.m. ET 2/2/18.

Docket Numbers: ER18-649-000.

Applicants: Hunlock Energy, LLC.

Description: § 205(d) Rate Filing: Notice of Succession for Reactive Service Rate Schedule to be effective 12/13/2017.

Filed Date: 1/12/18.

Accession Number: 20180112-5152.

Comments Due: 5 p.m. ET 2/2/18.

Docket Numbers: ER18-650-000.

Applicants: Southwest Power Pool, Inc.

Description: § 205(d) Rate Filing: 3290R1 Sholes Wind Energy GIA to be effective 12/14/2017.

Filed Date: 1/12/18.

Accession Number: 20180112-5161.

Comments Due: 5 p.m. ET 2/2/18.

Docket Numbers: ER18-651-000.

Applicants: Arizona Public Service Company.

Description: § 205(d) Rate Filing: OATT Collation Filing to be effective 1/12/2018.

Filed Date: 1/12/18.

Accession Number: 20180112-5184.

Comments Due: 5 p.m. ET 2/2/18.

Docket Numbers: ER18-652-000.

Applicants: PJM Interconnection, L.L.C.

Description: Tariff Cancellation: Notice of Cancellation of ISA SA No. 4666, Queue No. Z2-038 to be effective 2/19/2018.

Filed Date: 1/16/18.

Accession Number: 20180116-5192.

Comments Due: 5 p.m. ET 2/6/18.

Docket Numbers: ER18-653-000.

Applicants: Southern California Edison Company.

Description: Tariff Cancellation: Notice of Cancellation GIA & DSA SEPV Kennedy Project SA Nos. 953-954 to be effective 2/5/2018.

Filed Date: 1/16/18.

Accession Number: 20180116-5193.

Comments Due: 5 p.m. ET 2/6/18.

Take notice that the Commission received the following public utility holding company filings:

Docket Numbers: PH18-3-000.

Applicants: LS Power Development, LLC.

Description: LS Power Development, LLC submits FERC 65-B Non-Material Change in Fact of Waiver Notification.

Filed Date: 1/12/18.

Accession Number: 20180112-5193.

Comments Due: 5 p.m. ET 2/2/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 16, 2018.
Nathaniel J. Davis, Sr.,
Deputy Secretary.

[FR Doc. 2018-01020 Filed 1-19-18; 8:45 am]

BILLING CODE 6717-01-P